DEPARTMENT OF COMMERCE

Foreign-Trade Zones Board

[B-20-2017]

Foreign-Trade Zone (FTZ) 43—Battle Creek, Michigan; Authorization of Production Activity; Mead Johnson & Company, LLC, dba Mead Johnson Nutritional; Subzone 43B; (Infant Formula/Nutritional Products); Zeeland, Michigan

On March 27, 2017, Mead Johnson & Company, LLC, dba Mead Johnson Nutritional, submitted a notification of proposed production activity to the FTZ Board for its facility within Subzone 43B, in Zeeland, Michigan.

The notification was processed in accordance with the regulations of the FTZ Board (15 CFR part 400), including notice in the Federal Register inviting public comment (82 FR 16786, April 6, 2017). On July 25, 2017, the applicant was notified of the FTZ Board's decision that no further review of the activity is warranted at this time. The production activity described in the notification was authorized, subject to the FTZ Act and the FTZ Board's regulations, including Section 400.14.

Dated: September 5, 2017.
Andrew McGilvray,
Executive Secretary.

[FR Doc. 2017-19295 Filed 9-11-17; 8:45 am]

BILLING CODE 3510-DS-P